DEPARTMENT OF COMMERCE

International Trade Administration

[A-533-824]

Polyethylene Terephthalate Film, Sheet, and Strip From India: Preliminary Results and Partial Rescission of Antidumping Duty Administrative Review; 2018-2019

AGENCY: Enforcement and Compliance, International Trade Administration, U.S. Department of Commerce.

SUMMARY: The Department of Commerce (Commerce) is conducting an administrative review of the antidumping duty order on polyethylene terephthalate film, sheet, and strip (PET film) from India. The period of review (POR) is July 1, 2018 through June 30, 2019. This review covers Jindal Poly Films Ltd. (India), a producer and exporter of PET film from India. Commerce preliminarily determines that sales of subject merchandise have not been made below normal value by Jindal Poly Films Ltd. (India) during the POR. We are also rescinding on seven companies where timely requests for withdrawals were filed by all parties who requested the reviews. The seven companies are as follows: Ester Industries Limited; Garware Polyester Ltd.; MTZ Polyesters Ltd.; Polyplex Corporation Ltd.; SRF Limited of India; Uflex Ltd.; and Vacmet India Limited. Interested parties are invited to comment on these preliminary results.

DATES: Applicable November 23, 2020.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On July 1, 2019, Commerce published in the Federal Register a notice of opportunity to request an administrative review of the antidumping duty order on PET film from India, for the period July 1, 2018 through June 30, 2019.¹ In accordance with section 751(a)(1) of the Tariff Act of 1930, as amended (the Act) and 19 CFR 351.213(b)(1), in July 2019, we received requests for reviews of the following companies: Ester Industries Limited (Ester); Garware Polyester Ltd. (Garware); MTZ Polyesters Ltd. (MTZ); Polyplex Corporation Ltd. (Polyplex); SRF Limited of India (SRF); Jindal Poly Films Ltd. (India) (Jindal); Uflex Ltd. (Uflex); and Vacmet India Limited (Vacmet).² In addition to the petitioners and Polyplex requesting a review of Jindal, Jindal self-requested.³

¹ See Antidumping or Countervailing Duty Order, Finding or Suspended Investigation; Opportunity to Request Administrative Review, 84 FR 31295 (July 1, 2019).

² See Letter DuPont Teijin Films, Mitsubishi Polyester Film, Inc., and SKC, Inc. (collectively, petitioners), “Polyethylene Terephthalate Film, Sheet, and Strip (PET Film) from India, Request for Antidumping Duty Administrative Review,” dated July 15, 2019 (Petitioners' Review Request); see also Letter Polyplex USA LLC, “Polyethylene Terephthalate Film, Sheet, and Strip (PET Film) from India: Polyplex USA LLC's Request for AD Administrative Review,” dated July 18, 2019 (Polyplex's Review Request); see also Letter SRF Limited, “Polyethylene Terephthalate Film, (PET Film) from India: Request for Administrative Review of the Antidumping Duty Order,” dated July 26, 2019; see also Letter Jindal Poly Films Limited of India, “Polyethylene Terephthalate Film, (PET Film) from India: Request for Administrative Review,” dated July 31, 2019.

³ See Petitioners' Review Request; see also Polyplex's Review Request; see also Jindal's Review Request.

Subsequently, on September 9, 2019, in accordance with 19 CFR 351.222(c)(1)(i), Commerce published a notice of initiation of an administrative review of the antidumping duty order on PET film from India.⁴

⁴ See Initiation of Antidumping and Countervailing Duty Administrative Reviews, 84 FR 47242, 47243-47244 (September 9, 2019) (Initiation Notice).

On September 27, 2019, we released U.S. Customs and Border Protection (CBP) import data to eligible parties under the Administrative Protective Order and invited interested parties to submit comments with respect to the selection of respondents for individual examination.⁵ No parties filed comments.

⁵ See Memorandum, “Antidumping Duty Administrative Review of Polyethylene Terephthalate Film, Sheet, and Strip (PET) Film from India: Release of U.S. Customs Entry Data for Respondent Selection,” dated September 27, 2019 (September 2019 Import Data Memo).

On November 29, 2019, Commerce determined to limit the number of companies subject to individual examination and selected Garware and Jindal as mandatory respondents.⁶ On December 6, 2019, the petitioners submitted a timely letter withdrawing its request to review Ester, Garware, Polyplex, SRF, Jindal, and Vacmet.⁷ Also on December 6, 2019, Polyplex USA LLC submitted a timely filed letter withdrawing its request to review Ester, Garware, Jindal, MTZ, Polyplex, SRF, Uflex, and Vacmet.⁸ SRF also filed a timely filed letter of withdrawal.⁹

⁶ See Memorandum, “Administrative Review of Antidumping Duty Order on Polyethylene Terephthalate Film, (PET Film) from India: Selection of Respondents for Individual Examination (Respondent Selection Memo), November 29, 2019.

⁷ See Letter Petitioners, “Polyethylene Terephthalate Film, Sheet and Strip from India: Request for Withdrawal of Antidumping Administrative Review,” dated December 6, 2019.

⁸ See Letter Polyplex USA LLC, “Polyethylene Terephthalate Film, Sheet and Strip from India: Request for Withdrawal of Anti-dumping Administrative Review,” dated December 6, 2019.

⁹ See Letter SRF Limited, “Polyethylene Terephthalate Film, Sheet and Strip from India/Withdrawal of Request for Antidumping Duty Admin Review of SRF Limited (SRF),” dated December 7, 2019.

We issued our initial questionnaire to Jindal on December 9, 2019. The deadline for withdrawal requests was December 9, 2019.¹⁰ Jindal submitted its request for withdrawal on December 19, 2019.¹¹

¹⁰ See 19 CFR 351.213(d)(1).

¹¹ See Letter Jindal, “Polyethylene Terephthalate Film, Sheet and Strip from India: Withdrawal of Request for Administrative Review,” dated December 17, 2019. (The deadline for withdrawal of review request was December 9, 2019.)

On March 23, 2020, in accordance with section 751(a)(3)(A) of the Act, and 19 CFR 351.213(h)(2), Commerce extended the due date for the preliminary results by an additional 67 days, from April 1, 2020 to July 7, 2020.¹² On April 24, 2020, Commerce issued a memorandum tolling all deadlines for administrative reviews, including this one, by 50 days.¹³ On July 21, 2020 Commerce issued another memorandum tolling all deadlines for administrative reviews by a total of 60 days.¹⁴ On October 21, 2020 in accordance with section 751(a)(3)(A) of the Act and 19 CFR 351.213(h)(2), Commerce extended the due date for the preliminary results by an additional 23 days. The current deadline is November 17, 2020.¹⁵

¹² See Memorandum “Polyethylene Terephthalate Film, Sheet and Strip from India: Extension of Deadline for Preliminary Results of Antidumping Duty Administrative Review (2018-2019),” dated March 23, 2020.

¹³ See Memorandum “Tolling of Deadlines for Antidumping and Countervailing Duty Administrative Reviews in Response to Operational Adjustments Due to COVID-19,” dated April 24, 2020.

¹⁴ Memorandum, “Tolling of Deadlines for Antidumping and Countervailing Duty Administrative Reviews,” July 21, 2020.

¹⁵ See Memorandum, “Polyethylene terephthalate (PET) film, sheet, and strip (PET Film) from India: Extension of Deadline for Preliminary Results of Antidumping Duty Administrative Review (2018-2019),” dated October 21, 2020.

Scope of the Order

The merchandise subject to the order is PET Film. The PET Film subject to the order is currently classifiable under subheading 3920.62.00.90 of the Harmonized Tariff Schedule of the United States (HTSUS). Although the HTSUS number is provided for convenience and for customs purposes, the written product description, available in the Preliminary Decision Memorandum, remains dispositive.¹⁶

¹⁶ See “Decision Memorandum for Preliminary Results and Partial Rescission of Antidumping Duty Administrative Review: Polyethylene Terephthalate Film, Sheet, and Strip from India; 2018-2019” (Preliminary Decision Memorandum), which is hereby adopted by this notice.

Partial Rescission of Administrative Review

Commerce initiated a review of eight companies in this proceeding.¹⁷ We are rescinding this administrative review with respect to seven of these companies: Ester, Garware, MTZ, Polyplex, SRF, Uflex, and Vacmet, pursuant to 19 CFR 351.213(d)(1), because all review requests of these companies were timely withdrawn.¹⁸ Accordingly, the only company that remains subject to the instant review is Jindal, as explained in the “Background” section.

¹⁷ See Initiation Notice.

¹⁸ See Preliminary Decision Memorandum at 4.

Methodology

Commerce is conducting this review in accordance with section 751(a)(2) of the Act. Export price is calculated in accordance with section 772 of the Act. Normal value is calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov. In addition, a complete version of the Decision Memorandum can be accessed directly at http://enforcement.trade.gov/frn/index.html. The signed and electronic versions of the Preliminary Decision Memorandum are identical in content.

Preliminary Results of Review

As a result of this review, we preliminarily determine the following weighted-average dumping margins for the period July 1, 2018 through June 30, 2019:

Manufacturer/exporter | Weighted- average margin (percent)
Jindal Poly Films Ltd. (India) | 0.00

Disclosure and Public Comment

We intend to disclose the calculations performed to parties in this proceeding within five days after public announcement of the preliminary results in accordance with 19 CFR 351.224(b). Pursuant to 19 CFR 351.309(c), interested parties may submit case briefs not later than 30 days after the date of publication of this notice. Rebuttal briefs, limited to issues raised in the case briefs, may be filed not later than seven days after the date for filing case briefs.¹⁹ Parties who submit case briefs or rebuttal briefs in this proceeding are encouraged to submit with each argument: (1) A statement of the issue; (2) a brief summary of the argument; and (3) a table of authorities.²⁰

¹⁹ See 19 CFR 351.309(d).

²⁰ See 19 CFR 351.303 (for general filing requirements).

Pursuant to 19 CFR 351.310(c), interested parties who wish to request a hearing, must submit a written request to the Acting Assistant Secretary for Enforcement and Compliance, filed electronically via ACCESS. An electronically filed document must be received successfully in its entirety by Commerce's electronic records system, ACCESS, by 5 p.m. Eastern Time within 30 days after the date of publication of this notice. Requests should contain: (1) The party's name, address, and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon completion of this administrative review, Commerce shall determine, and U.S. Customs and Border Protection (CBP) shall assess, antidumping duties on all appropriate entries in accordance with 19 CFR 351.212(b). If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

We intend to issue instructions to CBP 15 days after publication of the final results of this review.

Cash Deposit Requirements

The following deposit requirements will be effective for all shipments of PET film from India entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 5.71 percent. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and 19 CFR 351.213(h)(1).

Dated: November 17, 2020.
Joseph A. Laroski Jr.,
Deputy Assistant Secretary for Policy and Negotiations.

Appendix

List of Topics Discussed in the Preliminary Decision Memorandum

I. Summary

II. Background

III. Scope of the Order

IV. Partial Rescission of Administrative Review

V. Comparisons to Normal Value

VI. Date of Sale

VII. Export Price

VIII. Normal Value

IX. Currency Conversion

X. Recommendation

[FR Doc. 2020-25857 Filed 11-20-20; 8:45 am]

BILLING CODE 3510-DS-P